DEPARTMENT OF TRANSPORTATION

Federal Aviation Administration

14 CFR Part 39

[Docket No. FAA-2005-22291; Directorate Identifier 2005-NM-038-AD; Amendment 39-14251; AD 2005-18-11]

RIN 2120-AA64

Airworthiness Directives; Airbus Model A340-200 and A340-300 Series Airplanes

AGENCY: Federal Aviation Administration (FAA), Department of Transportation (DOT).

ACTION: Final rule; request for comments.

SUMMARY: The FAA is adopting a new airworthiness directive (AD) for certain Airbus Model A340-200 and A340-300 series airplanes. This AD requires a one-time inspection for discrepancies of the spotfacing for the pylon-to-engine attachment bolts on the pyramid forward fitting of the engine pylon, and repair if necessary. This AD results from a report that, during a routine inspection, it was found that the diameter of the spotfacings was too small for two of the pylon-to-engine attachment bolts on the pyramid forward fitting. We are issuing this AD to prevent reduced structural integrity of the pylon-to-engine attachment bolts on the pyramid forward fitting, which could result in separation of an engine from the airplane.

DATES: This AD becomes effective September 22, 2005.

The Director of the Federal Register approved the incorporation by reference of a certain publication listed in the AD as of September 22, 2005.

We must receive comments on this AD by November 7, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Discussion

The Direction Générale de l'Aviation Civile (DGAC), which is the airworthiness authority for France, notified us that an unsafe condition may exist on certain Airbus Model A340-200 and A340-300 series airplanes. The DGAC advises that, during a routine inspection, it was found that the diameter of the spotfacings was too small for two of the pylon-to-engine attachment bolts on the pyramid forward fitting. Investigation revealed that, because the diameter of the spotfacings on the two front fasteners was incorrect, the bolt head did not fit correctly on the flat part of the spotfacing, causing possible damage of the spotfacing area and cracking/wear of the pylon-to-engine attachment bolt. This condition, if not corrected, could result in separation of an engine from the airplane.

Relevant Service Information

Airbus has issued Service Bulletin A340-54-4009, including Appendix 01, Revision 01, dated February 15, 2005. The service bulletin describes procedures for a one-time inspection for discrepancies of the spotfacing for the pylon-to-engine attachment bolts on the pyramid forward fitting of the engine pylon, and repair if necessary. The discrepancies include incorrect dimensions of the spotfacing and misalignment of the bolt. The repair involves measuring and machining the spotfacing to the correct dimension and installing new bolts and washers. Accomplishing the actions specified in the service information is intended to adequately address the unsafe condition. The DGAC mandated the service information and issued French airworthiness directive F-2005-011, dated January 19, 2005, to ensure the continued airworthiness of these airplanes in France.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to prevent reduced structural integrity of the pylon-to-engine attachment bolts on the pyramid forward fitting, which could result in separation of an engine from the airplane. This AD requires accomplishing the actions specified in the service information described previously, except as discussed under “Difference Between the AD and Service Bulletin.”

Difference Between the AD and Service Bulletin

Airbus Service Bulletin A340-54-4009 recommends concurrently accomplishing Airbus Service Bulletin A340-71-4001, or the equivalent production modification. The equivalent production modification has been done on the airplanes specified in the applicability of this AD. Additionally, the French airworthiness directive does not mandate accomplishment of the concurrent service bulletin. In light of these factors, this AD would not require accomplishing the concurrent service bulletin.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

If an affected airplane is imported and placed on the U.S. Register in the future, the required inspection would take about 1 work hour per airplane, at an average labor rate of $65 per work hour. Based on these figures, the estimated cost of the inspection would be $65 per airplane.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to the address listed under the ADDRESSES section. Include “Docket No. FAA-2005-22291; Directorate Identifier 2005-NM-038-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-18-11 Airbus: Amendment 39-14251. Docket No. FAA-2005-22291; Directorate Identifier 2005-NM-038-AD.

Effective Date

(a) This AD becomes effective September 22, 2005.

Affected ADs

(b) None.

Applicability

(c) This AD applies to Airbus Model A340-211, -212, and -213, and A340-311, -312, and -313 airplanes; certificated in any category; as identified in Airbus Service Bulletin A340-54-4009, Revision 01, dated February 15, 2005.

Unsafe Condition

(d) This AD results from a report that, during a routine inspection, it was found that the diameter of the spotfacings was too small for two of the pylon-to-engine attachment bolts on the pyramid forward fitting. The FAA is issuing this AD to prevent reduced structural integrity of the pylon-to-engine attachment bolts on the pyramid forward fitting, which could result in separation of an engine from the airplane.

Compliance

(e) You are responsible for having the actions required by this AD performed within the compliance times specified, unless the actions have already been done.

One-Time Inspection/Repair

(f) Within 18 months after the effective date of this AD: Perform a one-time detailed inspection for discrepancies of the spotfacing for the pylon-to-engine attachment bolts on the pyramid forward fitting of each engine pylon, in accordance with the Accomplishment Instructions of Airbus Service Bulletin A340-54-4009, Revision 01, dated February 15, 2005. Repair any discrepancy before further flight in accordance with the service bulletin. Inspections and repairs accomplished before the effective date of this AD in accordance with Airbus Service Bulletin A340-54-4009, dated August 25, 2004, are acceptable for compliance with this paragraph.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

No Reporting Requirement

(g) Although the referenced service bulletin describes procedures for submitting a report of inspection results to the manufacturer, this AD does not include that requirement.

Alternative Methods of Compliance (AMOCs)

(h) The Manager, International Branch, ANM-116, Transport Airplane Directorate, FAA, has the authority to approve AMOCs for this AD, if requested in accordance with the procedures found in 14 CFR 39.19.

Related Information

(i) French airworthiness directive F-2005-011, dated January 19, 2004, also addresses the subject of this AD.

Material Incorporated by Reference

(j) You must use Airbus Service Bulletin A340-54-4009, Revision 01, dated February 15, 2005, excluding Appendix 01, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal-register/cfr/ibr-locations.html.

Issued in Renton, Washington, on August 29, 2005.
Kalene C. Yanamura,
Acting Manager, Transport Airplane Directorate, Aircraft Certification Service.

[FR Doc. 05-17606 Filed 9-6-05; 8:45 am]

BILLING CODE 4910-13-P